FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 16747NF.

Name: Ambert Inc. dba African Express Lines.

Address: 249 Merrifield Avenue, Oceanside, NY 11572.

Date Revoked: May 12, 2002.

Reason: Failed to maintain valid bonds.

License Number: 13354F.

Name: Binex Line Corp.

Address: 21818 S. Wilmington Avenue, Suite 404, Long Beach, CA 90810.

Date Revoked: May 17, 2002.

Reason: Failed to maintain a valid bond.

License Number: 4647F.

Name: Brian Leslie Scheele dba Southern Cross Shipping Co.

Address: 2200 Severn Avenue, Q-105, Metairie, LA 70001.

Date Revoked: March 30, 2002.

Reason: Failed to maintain a valid bond.

License Number: 17525F.

Name: Faour International Co.

Address: 1971 W. Fifth Avenue, Suite 2, Columbus, OH 43212.

Date Revoked: May 17, 2002.

Reason: Failed to maintain a valid bond.

License Number: 4066F.

Name: Maracargo Inc.

Address: 7700 NW., 79th Place, Suite #1, Miami, FL 33166.

Date Revoked: May 2, 2002.

Reason: Failed to maintain a valid bond.

License Number: 3651N and 3651F.

Name: Puma Express, Inc.

Address: 840 Dillon Drive, Wood Dale, IL 60191.

Date Revoked: April 3, 2002 and April 24, 2002.

Reason: Failed to maintain valid bonds.

License Number: 4652NF.

Name: Smith & Johnson International Logistic Services, Inc.

Address: 868 Elston Street, Rahway, NJ 07065.

Date Revoked: May 9, 2002.

Reason: Failed to maintain valid bonds.

License Number: 3880F.

Name: Southern Cargo Logistics Inc.

Address: 3119 Spring Glen Road, #108, Jacksonville, FL 32207

Date Revoked: May 11, 2002.

Reason: Failed to maintain a valid bond.

License Number: 3598NF.

Name: Ventana Overseas Cargo, Inc.

Address: 153-63 Rockaway Blvd., Jamaica, NY 11434.

Date Revoked: September 19, 2001.

Reason: Failed to maintain valid bonds.

Sandra L. Kusumoto,
Director, Bureau of Consumer Complaints and Licensing.

[FR Doc. 02-14085 Filed 6-4-02; 8:45 am]

BILLING CODE 6730-01-P